DEPARTMENT OF HOMELAND SECURITY

Coast Guard

33 CFR Part 117

[CGD05-06-028]

RIN 1625-AA09

Drawbridge Operation Regulations; Elizabeth River—Eastern Branch, Norfolk, VA

AGENCY: Coast Guard, DHS.

ACTION: Notice of temporary deviation from regulations.

SUMMARY: The Commander, Fifth Coast Guard District, has issued a temporary deviation from the regulations governing the operation of the Berkley Bridge across the Eastern Branch of the Elizabeth River, mile 0.4, at Norfolk, Virginia. To facilitate electrical and mechanical repairs, this deviation allows the drawbridge to remain closed to navigation each day, from 7 a.m. to 7 p.m., on April 18, 19, and 20, 2006.

DATES: This deviation is effective from 7 a.m. on April 18, 2006 to 7 p.m. on April 20, 2006.

ADDRESSES: Materials referred to in this docket are available for inspection and copying at the Fifth Coast Guard District, Federal Building, 1st Floor, 431 Crawford Street, Portsmouth, VA 23704-5004 between 8 a.m. and 4 p.m., Monday through Friday, except Federal holidays. The phone number is (757) 398-6629. Commander (obr), Fifth Coast Guard District maintains the public docket for this temporary deviation.

FOR FURTHER INFORMATION CONTACT: Gary Heyer, Bridge Management Specialist, Fifth Coast Guard District, at (757) 398-6629.

SUPPLEMENTARY INFORMATION: The Berkley Bridge, a lift-type drawbridge, has a vertical clearance in the closed position to vessels of 48 feet at mean high water.

The bridge owner, the Virginia Department of Transportation, has requested a temporary deviation from the current operating regulation set out in 33 CFR 117.1007(c), to effect electrical and mechanical repairs of the draw span.

To facilitate the repairs, the drawbridge will remain closed to navigation each day, from 7 a.m. to 7 p.m., on April 18, 19, and 20, 2006. During these periods, the repairs require immobilizing the operation of the lift span in the closed-to-navigation position. At all other times, the drawbridge will operate in accordance with the current operating regulations outlined in 33 CFR 117.1007(c).

The Coast Guard has informed the known users of the waterway so that they can arrange their transits to minimize any impact caused by the temporary deviation.

In accordance with 33 CFR 117.35(c), this work will be performed with all due speed in order to return the bridge to normal operation as soon as possible. This deviation from the operating regulations is authorized under 33 CFR 117.35.

Dated: March 23, 2006.
Waverly W. Gregory, Jr.,
Chief, Bridge Administration Branch, Fifth Coast Guard District.

[FR Doc. 06-3115 Filed 3-30-06; 8:45 am]

BILLING CODE 4910-15-P